DEPARTMENT OF HEALTH AND HUMAN SERVICES

National Institutes of Health

National Cancer Institute; Amended Notice of Meeting

Notice is hereby given of a change in the meeting of the National Cancer Institute Special Emphasis Panel, February 27, 2006, 8 a.m. to February 27, 2006, 5 p.m., Ramada Inn Rockville, 1775 Rockville Pike, Rockville, MD, 20852 which was published in the Federal Register on December 21, 2005, 70FR75824.

The meeting is amended to change the meeting format to a teleconference, the meeting time to 11 a.m.-4 p.m. and the meeting location to 6130 Executive Blvd., Conference Room F in Rockville, MD and to remove SBIR Topic 206. The meeting is closed to the public.

Dated: January 11, 2006.
Anna Snouffer,
Acting Director, Office of Federal Advisory Committee Policy.

[FR Doc. 06-648 Filed 1-23-06; 8:45 am]

BILLING CODE 4140-01-M